DEPARTMENT OF HEALTH AND HUMAN SERVICES

Centers for Disease Control and Prevention

HIV/AIDS Surveillance in VCT/PMTCT Centers in Haiti Including Support of Annual Sero-Survey of Pregnant Women

Announcement Type: New.

Funding Opportunity Number: 04274.

Catalog of Federal Domestic Assistance Number: 93.941.

Key Dates:

Application Deadline: August 30, 2004.

I. Funding Opportunity Description

Authority: This program is authorized under Sections 307 and 317(k)(2) of the Public Health Service Act, [42 U.S.C. Sections 242l and 247b(k)(2)], as amended.

Purpose: The Centers for Disease Control and Prevention (CDC) announces the availability of fiscal year (FY) 2004 funds for a cooperative agreement to: (1) Reinforce the capacity of Ministry of Health (MOH) staff to participate in and conduct population-based surveys; and (2) to establish a definitive United States Government (USG) program health information system (HIS) to monitor existing Voluntary Counseling and Testing/Prevention of Mother to Child Transmission (VCT/PMTCT) programs and clinical care, and continue generating monthly facility-based reports.

The purpose of this cooperative agreement is to provide a funding mechanism to provide support to a public or private non-profit organization, based in Haiti, that has proven capacity to provide the technical assistance needed to lead these two surveillance-based initiatives.

The USG seeks to reduce the impact of HIV/AIDS in specific countries in sub-Saharan Africa and the Caribbean through a 15 billion dollar U.S. presidential initiative known as the President's Emergency Plan for AIDS Relief (PEPFAR). The Global AIDS Program (GAP) of the U.S., CDC, Department of Health and Human Services (HHS), is a lead partner in this initiative.

The PEPFAR encompasses HIV/AIDS activities in more than 75 countries and focuses on 14 countries in Africa and the Caribbean to develop comprehensive and integrated prevention, care and treatment programs. Within five years, the 14 countries will: Treat more than two million HIV-infected persons with effective combination anti-retroviral therapy; will care for ten million HIV-infected persons and those orphaned by HIV/AIDS; and prevent seven million new infections.

Targeted countries are among those with the most severe epidemics and the highest number of new infections. They also represent countries where the potential for impact is greatest and where USG agencies are already active. Haiti is one of these targeted countries.

Measurable outcomes of this program will be in alignment with the following performance goal for the PEPFAR to prevent seven million new HIV infections. The initiative will support critical prevention efforts by supporting VCT and PMTCT sites, enabling them to continue to perform.

This initiative is a coordinated effort led by the Office of the Global AIDS Coordinator at the Department of State, and involves various U.S. Federal Government agencies, including, the Department of State, HHS, the Department of Defense, and the U.S. Agency for International Development (USAID).

Activities: Awardee activities for this program are as follows:

1. Reinforce capacity of MOH staff to participate in and conduct population-based surveys.

a. Train 50 MOH personnel in the technical aspects of conducting an Antinatal Clinic (ANC) sero-survey through planning and execution of the fifth annual sero-survey, to include, but not limited to: identification of sites; training of data collection teams and site managers; provision of commodities and equipment; elaboration of Standard Operating Procedures (SOPs) for sample collection; subcontracting for sample processing; transportation of samples to a central lab; setting up data entry screens; and analysis of survey data.

b. Provide operational support to the ANC sero-survey sites that are not a part of the official VCT/PMTCT site network to enable them to continue to perform.

c. Initiate procurement actions for the fifth ANC sero-survey (projected start date: May 2005).

2. Establish a definitive USG program HIS to monitor existing VCT/PMTCT programs and clinical care, and continue generating monthly facility-based reports.

a. Integrate PEPFAR indicators into existing surveillance; and modify procedures manuals, data collection tools and reports.

b. Provide additional computer equipment for 15 institutions (excluding Centers of Excellence covered by University of Technical Assistant Project [UTAP]).

c. Support FY 2004 salaries for ten HIS staff hired earlier this year, and support salaries through March 2005.

d. Train field and MOH personnel, supervise data collection and prepare reports in collaboration with MOH staff.

e. Establish a national HIV/AIDS case notification system.

f. Provide technical and secretarial support to the National Technical Committee on Monitoring and Evaluation (M&E).

In a cooperative agreement, CDC staff is substantially involved in the program activities, above and beyond routine grant monitoring.

CDC Activities for this program are as follows:

1. CDC will provide technical assistance in designing and building local area networks, setup of databases and other information technology projects. CDC will also provide installation and setup of computer equipment to assist in achieving project goals, subject to agreement by CDC and the recipient.

2. CDC will assist in developing and implementing data and information dissemination plans for HIV, AIDS, tuberculosis (TB), and sexually transmitted infections (STI) data and results.

3. CDC Haiti will provide technical support to recipient for planning and implementing surveillance activities through their M&E specialist, database manager and information specialist, and through Atlanta-based staff, as indicated.

4. CDC will provide training and commodities, as indicated, for the annual sero-survey of pregnant women.

II. Award Information

Type of Award: Cooperative Agreement. CDC involvement in this program is listed in the Activities Section above.

Fiscal Year Funds: 2004.

Approximate Total Funding: $550,000.

Approximate Number of Awards: One.

Approximate Average Award: $110,000 (This amount is for the first 12-month budget period, and includes direct costs.).

Floor of Award Range: $550,000.

Ceiling of Award Range: $550,000.

Anticipated Award Date: September 1, 2004.

Budget Period Length: 12 months.

Project Period Length: Five years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private non-profit and faith-based organizations based in Haiti. Applicants should have a history of activity in ANC sero-surveillance in Haiti, and in HIS development.

Other Eligibility Requirements: Applicants should have an established relationship with the MOH in Haiti.

III.2. Cost Sharing or Matching

Matching funds are not required for this program.

III.3. Other

If you request a funding amount greater than the ceiling of the award range, your application will be considered non-responsive, and will not be entered into the review process. You will be notified that your application did not meet the submission requirements.

If your application is incomplete or non-responsive to the requirements listed in this section, it will not be entered into the review process. You will be notified that your application did not meet submission requirements.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 40. If your narrative exceeds the page limit, only the first pages, which are within the page limit, will be reviewed.

• Font size: 12 point unreduced

• Double spaced

• Paper size: 8.5 by 11 inches

• Page margin size: One inch

• Printed only on one side of page

• Held together only by rubber bands or metal clips; not bound in any other way.

Your narrative should address activities to be conducted over the entire project period, and must include the following items in the order listed:

1. Organizational Experience

Provide evidence that your organization has experience in, and is currently maintaining, HIV/AIDS surveillance activity in Haiti.

2. Goals and Objectives

a. Provide goals, objectives, and a timeline for implementation of the program plan.

b. Provide measures of effectiveness by which you can assess the success of the program.

3. Plan of Action

Describe how your organization will meet stated requirements.

4. Management Plan, Staffing, and Infrastructure

a. Management Plan—Provide an organizational chart and describe the responsibilities for each of the key staff.

b. Staffing—Describe the number and types of staff needed to assist with technical guidance and training activities.

c. Infrastructure—Describe the physical facilities in which the proposed activities will be carried out and the equipment needed.

d. Human Resources, Management and Administration—Describe plans to provide or obtain all material and human resources necessary for the development, implementation, management, operation, procurement, monitoring, and quality assurance of all program activities.

e. Coordination with National Programs—Describe the organization's strategy to coordinate proposed activities within the context of national programs.

f. Exit Strategy and Capacity Building within the MOH—Elaborate an exit strategy that encompasses transfer of all necessary knowledge and skills to the MOH of Haiti.

5. Budget—(not included in the narrative page limit)

Guidance for completing your budget can be found on the CDC Web site, at the following address: http://www.cdc.gov/od/pgo/funding/budgetguide.htm.

Additional information may be included in the application appendices. The appendices will not be counted toward the narrative page limit. This additional information includes:

• Curriculum Vitae

• Resumes

• Organizational Charts

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

Private, non-profit organizations are encouraged to submit with their applications the survey located under “Grant Related Documents and Forms “titled “Survey for Private, Non-Profit Grant Applicants” at www.acf.hhs.gov/programs/ofs/final_fy04_424_survey.doc.

IV.3. Submission Dates and Times

Application Deadline Date: August 30, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Funds may be used only for activities associated with HIV/AIDS. USG funds may be used for direct costs such as salaries; necessary travel; operating costs, including supplies, fuel for transportation, utilities, etc.; staff training costs, including registration fees and purchase and rental of training-related equipment; renovation of clinical or lab facilities; and purchase of HIV testing reagents, test kits and laboratory equipment for HIV testing. Equipment may be purchased if deemed necessary to accomplish program objectives; however, prior approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organizations regardless of their location.

• The applicant may contract with other organizations under this program; however the applicant must perform a substantial portion of the activities (including program management and operations, and delivery of prevention services for which funds are required).

• You must obtain an annual audit of these CDC funds (program-specific audit) by a U.S.-based audit firm with international branches and current licensure/authority in-country, and in accordance with International Accounting Standards or equivalent standard(s) approved in writing by CDC.

• A fiscal Recipient Capability Assessment may be required, prior to or post award, in order to review the applicant's business management and fiscal capabilities regarding the handling of U.S. Federal funds.

• Prostitution and Related Activities—The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any foreign recipient must have a policy explicitly opposing, in its activities outside the United States, prostitution and sex trafficking, except that this requirement shall not apply to the Global Fund to Fight AIDS, Tuberculosis and Malaria, the World Health Organization, the International AIDS Vaccine Initiative or to any United Nations agency, if such entity is a recipient of U.S. government funds in connection with this document.

The following definitions apply for purposes of this clause:

• Sex trafficking means the recruitment, harboring, transportation, provision, or obtaining of a person for the purpose of a commercial sex act. 22 U.S.C. 7102(9).

• A foreign recipient includes an entity that is not organized under the laws of any State of the United States, the District of Columbia or the Commonwealth of Puerto Rico. Restoration of the Mexico City Policy, 66 FR 17303, 17303 (March 28, 2001).

All recipients must insert provisions implementing the applicable parts of this section, “Prostitution and Related Activities,” in all subagreements under this award. These provisions must be express terms and conditions of the subagreement, acknowledge that each certification to compliance with this section, “Prostitution and Related Activities,” are a prerequisite to receipt of U.S. government funds in connection with this document, and must acknowledge that any violation of the provisions shall be grounds for unilateral termination of the agreement prior to the end of its term. In addition, all recipients must ensure, through contract, certification, audit, and/or any other necessary means, all the applicable requirements in this section, “Prostitution and Related Activities,” are met by any other entities receiving U.S. government funds from the recipient in connection with this document, including without limitation, the recipients' sub-grantees, sub-contractors, parents, subsidiaries, and affiliates. Recipients must agree that HHS may, at any reasonable time, inspect the documents and materials maintained or prepared by the recipient in the usual course of its operations that relate to the organization's compliance with this section, “Prostitution and Related Activities.”

All primary grantees receiving U.S. Government funds in connection with this document must certify compliance prior to actual receipt of such funds in a written statement referencing this document (e.g., “[Recipient's name] certifies compliance with the section, ‘Prostitution and Related Activities.’ ”) addressed to the agency's grants officer. Such certifications are prerequisites to the payment of any U.S. Government funds in connection with this document.

Recipients' compliance with this section, “Prostitution and Related Activities,” is an express term and condition of receiving U.S. government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

Guidance for completing your budget can be found on the CDC Web site, at the following Internet address: http://www.cdc.gov/od/pgo/funding/budgetguide.htm.

IV.6. Other Submission Requirements

Application Submission Address: Submit the original and two hard copies of your application by mail or express delivery service to: Technical Information Management-PA# 04274, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Ability to carry out the project (40 points)

Does the applicant have demonstrated capability to carry out the project activities as specified? Are the applicants proposed activities realistic, achievable, time-framed and appropriate? How does the applicant propose to monitor these activities? Applicants should include a description of their organizational structure, and use it to explain how the work will be carried out.

2. Technical and Programmatic Approach (20 points)

Does the applicant's proposal demonstrate understanding of the technical and organizational aspects of conducting HIV surveillance? Do the proposed surveillance activities have the potential to effectively meet objectives? Is the timeline a fair estimate of the time it will take to implement surveillance activities?

3. Personnel (20 points)

Is there an adequate number of personnel available to carry out the technical and organizational aspects of all proposed activities? Do the proposed personnel have the training, availability and experience necessary to carry out activities?

4. Administrative and Accounting Plan (20 points)

Does the plan adequately account for the preparation of reports and the monitoring and auditing of expenditures under this cooperative agreement? Does the application demonstrate the ability to administer and manage the budget? Is the budget itemized and well-justified? Has the applicant demonstrated plans to engage an outside accounting firm to design and manage the financial system to meet CDC and the recipient's accounting requirements?

5. Budget (Reviewed, but not scored)

Is the budget within the funding allotted? Is the budget both reasonable and consistent with stated objectives and planned program activities? Are all major expense categories covered?

V.2. Review and Selection Process

Applications will be reviewed for completeness by the Procurement and Grants Office (PGO) staff, and for responsiveness by NCHSTP. Incomplete applications and applications that are non-responsive to the eligibility criteria will not advance through the review process. Applicants will be notified that their application did not meet submission requirements.

An objective review panel will evaluate complete and responsive applications according to the criteria listed in the “V.1. Criteria” section above.

V.3. Anticipated Announcement and Award Dates

September 1, 2004

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-6 Patient Care

• AR-12 Lobbying Restrictions

• AR-14 Accounting System Requirements

Additional information on these requirements can be found on the CDC web site at the following Internet address: http://www.cdc.gov/od/pgo/funding/ARs.htm.

VI.3. Reporting Requirements

You must provide CDC with an original, plus two hard copies of the following reports:

1. Detailed implementation plan within 30 days of notice of award.

2. Interim progress report, no less than 15 days before the end of the budget period. The progress report will serve as your non-competing continuation application, and must contain the following elements:

a. Current Budget Period Activities Objectives.

b. Current Budget Period Activities Accomplished.

c. Current Budget Period Financial Progress.

d. New Budget Period Program Proposed Activities and Objectives.

e. Budget.

f. Additional Requested Information.

g. Measures of Effectiveness.

3. Financial status report, no more than 90 days after the end of the budget period.

4. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Matt Brown, MPS, Country Director; Global AIDS Program (GAP), Haiti, 17 Boulevard Harry Truman, Port-au-Prince Haiti, Telephone: 509-229-3003, E-mail: zjc5@cdc.gov.

For financial, grants management, or budget assistance, contact: Diane Flournoy, Grants Management Specialist, CDC Procurement and Grants Office, 2920 Brandywine Road, Atlanta, GA 30341, Telephone: 770-488-2072, E-mail: Dmf6@cdc.gov.

Dated: July 22, 2004.
William P. Nichols,
Acting Director, Procurement and Grants Office, Centers for Disease Control and Prevention.

[FR Doc. 04-17213 Filed 7-28-04; 8:45 am]

BILLING CODE 4163-18-P